DEPARTMENT OF ENERGY

Federal Energy Regulatory Commission

[Docket No. IC25-1-000]

Commission Information Collection Activities (FERC-519, FERC-520, FERC-546, and FERC-580) Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-519, (Application under Federal Power Act Section 203); FERC-520, (Application for Authority to Hold interlocking Directorate positions; FERC-546, (Certification of Qualifying Facility (QF) Status for a Small Power Production or Cogeneration Facility); FERC-580, (Interrogatory on Fuel and Energy Purchase Practices). The above four collections are a part of a combined notice only and are not being combined into one OMB Collection number. There were no comments received on the 60-day notice that was published December 3, 2024 in the Federal Register.

DATES: Comments on the collection of information are due April 4, 2025.

ADDRESSES: Send written comments on FERC-519, 520, 546, or 580 to OMB through www.reginfo.gov/public/do/PRAMain. Attention: Federal Energy Regulatory Commission Desk Officer. Please identify the OMB Control Number (FERC 519: 1902-0082, FERC-520: 1902-0083, FERC-546: 1902-0155, FERC-580: 1902-0137) in the subject line of your comments. Comments should be sent within 30 days of publication of this notice to www.reginfo.gov/public/do/PRAMain.

Please submit copies of your comments to the Commission. You may submit copies of your comments (identified by Docket No. IC25-1-000) by one of the following methods: Electronic filing through https://www.ferc.gov, is preferred.

• Electronic Filing: Documents must be filed in acceptable native applications and print-to-PDF, but not in scanned or picture format.

• For those unable to file electronically, comments may be filed by USPS mail or by other delivery methods:

○ Mail via U.S. Postal Service Only: Federal Energy Regulatory Commission, Secretary of the Commission, 888 First Street NE, Washington, DC 20426.

○ All other delivery methods: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: https://www.ferc.gov/ferc-online/overview. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Kayla Williams may be reached by email at DataClearance@FERC.gov, telephone at (202) 502-6468.

SUPPLEMENTARY INFORMATION:

1. FERC-519

Title: FERC-519, Application under Federal Power Act Section 203.¹

¹ 16 U.S.C. 824b.

OMB Control No.: 1902-0082.

Type of Request: Three-year extension of the FERC-519 information collection requirements with no changes to the current reporting requirements.

Abstract: The Commission requires that public utilities must seek authorization under amended section 203(a)(1)(B) of the Federal Power Act (FPA) to merge or consolidate, directly or indirectly, its facilities subject to the jurisdiction of the Commission, or any part thereof, with the facilities of any other person, or any part thereof, that are subject to the jurisdiction of the Commission and have a value in excess of $10 million, by any means whatsoever. In addition, as required by the Act, the Commission establishes a requirement to submit a notification filing for mergers or consolidations by a public utility if the facilities to be acquired have a value in excess of $1 million and such public utility is not required to secure Commission authorization under amended section 203(a)(1)(B). The information collected under the FERC-519 enables the Commission to meet its statutory responsibilities regarding public utility disposition, merger, consolidation of facilities, purchase, or acquisition oversight and enforcement in accordance with the FPA as referenced above. Without this information, FERC would be unable to meet these responsibilities. The required information (18 CFR part 33.12) includes descriptions of corporate attributes of the party or parties to the proposed transaction (e.g. a sale, lease, or other disposition, merger, or consolidation of facilities, or purchase of other acquisition of the securities of a public utility and the facilities or other property involved in the transaction), statements about effect of the transaction, and the applicant's proof that the transaction will be consistent with the public interest. FPA section 203 requires a filing on the occasion that a public utility proposes to dispose of jurisdictional facilities, merge such facilities, or acquire the securities of another public utility. Public Utilities information may include details on:

• Corporate;

• Information Technology Management;

• General Accounting;

• Personnel and Payroll;

• Transportation;

• Tariffs and Rates;

• Insurance;

• Operations and Maintenance;

• Plant and Depreciation;

• Purchase and Stores;

• Revenue Accounting and Collection;

• Tax;

• Treasury; and

• Miscellaneous.

Type of Respondents: Public utility officers regulated by the FPA.

Estimate of Annual Burden: ² The Commission estimates the total annual burden and cost ³ for this information collection as follows:

² “Burden” is the total time, effort, or financial resources expended by persons to generate, maintain, retain, or disclose or provide information to or for a Federal agency. For further explanation of what is included in the information collection burden, refer to Title 5 Code of Federal Regulations 1320.3.

³ Commission staff estimates that the industry's skill set and cost (for wages and benefits) for FERC-520 are approximately the same as the Commission's average cost. The FERC 2024 average salary plus benefits for one FERC full-time equivalent (FTE) is $207,786/year (or $100/hour).

FERC-519—Application Under Federal Power Act Section 203
| Number of respondents | Annual number of responses per respondent | Total number of responses | Average burden & cost per response | Total annual burden hours (total annual cost) | Cost per respondent ($)
| (1) | (2) | (1) * (2) = (3) | (4) | (3) * (4) = (5) | (5) ÷ (1)
FERC-519 (FPA Section 203 Filings) ⁴ | 134 | 1 | 134 | 324.43 hr.; ⁵ $32,443 | 43,473.62 hrs.; $4,347,362 | $32,443

2. FERC—520

⁴ Commission staff estimates that approximately 26 section 203 filings will change from full section 203 filings to the notification filing described above and will take one burden hour to complete. The number of respondents and responses is based on Commission staff's estimate that 13 percent of the approximately 200 section 203 filings received will be affected. This represents a significant reduction in burden hours.

⁵ With this amendment each of the 26 affected entities and their related filings (i.e., the entities that now only have to file the section 203 notification filings) is reduced to 1 hour.

Title: FERC-520, Application for Authority to Hold Interlocking Directorate Positions OMB Control No.: 1902-0083

Type of Request: Three-year extension of the FERC-520 information collection requirements with no changes to the current reporting requirements.

Abstract: FERC Form No. 520 is an application requesting FERC authorization for officers and directors of regulated public utilities to simultaneously hold positions of officers and directors of certain other entities. Section 305(b)(1) of the Federal Power Act (FPA) ⁶ prohibits the holding of specific interlocking positions unless the Commission has authorized the holding of such interlocks upon a determination that neither public nor private interests will be adversely affected.

⁶ 16 U.S.C. 825d(b)(1).

FERC-520 consists of three information collection activities. A “full application,” in accordance with 18 CFR 45.8, provides detailed information about the positions for which authorization is sought, including a description of duties. Submission of a more streamlined “informational report,” in accordance with 18 CFR 45.9, is a condition for an automatic grant of authorization to hold interlocking directorates. This automatic authorization is available only to certain types of officers and directors. Finally, a “notice of change,” in accordance with 18 CFR 45.5, is required within 60 days after an officer or director resigns or withdraws from Commission-authorized interlocked positions or if the applicant is not re-elected or reappointed to the interlocked position. However, no notice of change is required if the only change is: (1) a resignation or withdrawal from fewer than all position held between or among affiliated public utilities; (2) a reelection or reappointment to a position that was previously authorized; or (3) holding a different or additional interlocking position that would qualify for automatic authorization under 18 CFR 45.9.

Type of Respondents: Officers and directors of public utilities seeking authorization to hold interlocking directorates.

Estimate of Annual Burden: ⁷ The Commission estimates the total annual burden and cost ⁸ for this information collection as follows:

⁷ “Burden” is the total time, effort, or financial resources expended by persons to generate, maintain, retain, or disclose or provide information to or for a Federal agency. For further explanation of what is included in the information collection burden, refer to Title 5 Code of Federal Regulations 1320.3.

⁸ Commission staff estimates that the industry's skill set and cost (for wages and benefits) for FERC-520 are approximately the same as the Commission's average cost. The FERC 2024 average salary plus benefits for one FERC full-time equivalent (FTE) is $207,786/year (or $100/hour).

FERC-520—Application for Authority To Hold Interlocking Directorate Positions
| A. Number of respondents | B. Annual number of responses per respondent | C. Total number of responses | D. Average burden & cost per response | E. Total annual burden hours & total annual cost | F. Cost per respondent
|  |  | (column A × column B) |  | (column C × column D) | (column E ÷ column A)
Full Application | 16 | 1 | 16 | 50 hrs.; $5,000 | 800 hrs.; $80,000 | $5,000
Informational Report | 500 | 1 | 500 | 8 hrs.; $800 | 4,000 hrs.; $400,000 | 800
Notice of Change | 100 | 1 | 100 | 0.25 hrs.; $25 | 25 hrs.; $2,500 | 25
Totals | 616 |  | 616 |  | 4,825 hrs.; $482,500 |

3. FERC-546

Title: FERC-546, Certificated Rate Filings: Gas Pipeline Rates.

OMB Control No.: 1902-0155.

Type of Request: Three-year extension of the FERC-546 information collection requirements with no changes to the current reporting requirements.

Abstract: The Commission reviews the FERC-546 materials to decide whether to approve rates and tariff changes associated with an application for a certificate under Natural Gas Act (NGA) section 7(c) (15 U.S.C. 717). Additionally, FERC reviews FERC-546 materials in NGA section 4(f) (15 U.S.C. 717), storage applications, to evaluate an applicant's market power and determine whether to grant market-based rate authority to the applicant. The Commission also uses the information in FERC-546 to monitor jurisdictional transportation, natural gas storage, and unbundled sales activities of interstate natural gas pipelines and Hinshaw ⁹ pipelines. In addition to fulfilling the Commission's obligations under the NGA, the FERC-546 enables the Commission to monitor the activities and evaluate transactions of the natural gas industry, ensure competitiveness, and improve efficiency of the industry's operations. Failure to collect this information would prevent the Commission from monitoring and evaluating transactions and operations of jurisdictional pipelines and performing its regulatory functions.

⁹ Hinshaw pipelines are those that receive all out-of-state gas from entities within or at the boundary of a state if all the natural gas so received is ultimately consumed within the state in which it is received, 15 U.S.C. 717(c). Congress concluded that Hinshaw pipelines are “matters primarily of local concern,” and so are more appropriately regulated by pertinent state agencies rather than by FERC. The Natural Gas Act section 1(c) exempts Hinshaw pipelines from FERC jurisdiction. A Hinshaw pipeline, however, may apply for a FERC certificate to transport gas outside of state lines.

Type of Respondents: Jurisdictional pipeline companies and storage operators.

Estimate of Annual Burden: ¹⁰ The Commission estimates the burden and cost for this information collection as follows:

¹⁰ “Burden” is the total time, effort, or financial resources expended by persons to generate, maintain, retain, or disclose or provide information to or for a Federal agency. For further explanation of what is included in the information collection burden, refer to Title 5 Code of Federal Regulations 1320.3.

¹¹ This figure was calculated by dividing the total number of responses (111) by the total number of respondents (83). The resulting figure was then rounded to the nearest thousandth place.

¹² Project-Area Wage Standards in the Labor Cost Component of Cost-of-Service Rates under Docket No. PL24-1-000 was issued on March 21, 2024, which allows jurisdictional entities to include wages consistent with project-area standards in cost-of-service rates filed with the Commission where the record supports that outcome.

FERC-546 (Certificated Rate Filings—Gas Pipeline Rates)
| Annual number of respondents | Annual number of responses per respondent | Total number of responses (rounded) | Average burden & cost per response (rounded) | Total annual burden hours & total annual cost (rounded) | Cost per respondent ($) (rounded)
| (1) | (2) | (1) * (2) = (3) | (4) | (3) * (4) = (5) | (5) ÷ (1)
Pipeline Certificate Filings and Storage Applications | 48 | ¹¹ 1 | 48 | 500 hrs.; $50,000 | 24,000 hrs.; $2,400,000 | $50,000.
Project Area Labor Wage ¹² | 16 | 1 | 16 | 15 hrs.; $1,500 | 240 hrs.; $24,000 | 15 hrs.; $1,500.
Totals | 64 |  | 64 | 515 hrs.; $51,500 | 24,240 hrs.; $2,424,000

4. FERC-580

Title: FERC Form 580: Interrogatory on Fuel and Energy Purchase Practices Pursuant to Section 205 of the Federal Power Act.

OMB Control No.: 1902-0137.

Type of Request: Three-year extension of the FERC Form 580 with no substantive changes to the current reporting requirements. Administrative changes to update the form are being made, as described below.

Abstract: The Commission collects FERC Form 580 information every other year as required under Section 205(f)(2) of the FPA,¹³ which provides that the Commission must review, “not less frequently than every 2 years,” practices under automatic adjustment clauses (AACs).¹⁴ As required by FPA section 205(f)(2), the Commission uses the information collected through the FERC Form 580 interrogatory to review utility purchase and cost recovery practices under AACs in order to ensure efficient use of resources.¹⁵ The Commission uses the information to evaluate costs in individual rate filings and to supplement periodic utility audits. This information is also provided to the public where it has also been used in this manner. Without the FERC Form 580 interrogatory, the Commission would not have the requisite information available to conduct the necessary review the FPA mandates.

¹³ 16 U.S.C. 824d.

¹⁴ An automatic adjustment clause is a provision of a rate schedule which provides for increases or decreases (or both), without prior hearing, in rates reflecting increases or decreases (or both) in costs incurred by an electric utility.

For additional information on AACs, see the Frequently Asked Questions (FAQs) and Desk Reference for FERC Form 580 on the Commission's website.

¹⁵ By using the data in FERC Form 580, the Commission is able to review utility purchase and cost recovery practices and ensure the resources are in compliance with Commission regulations in 18 CFR 35.14.

Type of Respondents: The filing must be submitted by all FERC-jurisdictional utilities owning and/or operating at least one steam-electric generating station of 50 MW or greater capacity or having a majority ownership interest in a jointly-owned steam-electric generating station of at least 50 MW. A jurisdictional utility without a cost-based tariff on file with the Commission is not required to file the form.

Estimate of Annual Burden: The Commission estimates the annual ¹⁶ public reporting burden ¹⁷ and cost ¹⁸ for the information collection as:

¹⁶ The FERC Form 580 interrogatory is conducted every two years.

¹⁷ Burden is defined as the total time, effort, or financial resources expended by persons to generate, maintain, retain, or disclose or provide information to or for a federal agency. See 5 CFR 1320 for additional information on the definition of information collection burden.

¹⁸ Commission staff estimates that the industry's skill set and cost (for wages and benefits) for FERC-520 are approximately the same as the Commission's average cost. The FERC 2024 average salary plus benefits for one FERC full-time equivalent (FTE) is $207,786/year (or $100/hour).

¹⁹ Fuel Adjustment Clause (FAC).

FERC Form 580 (Interrogatory on Fuel and Energy Purchase Practices Pursuant to Section 205 of the Federal Power Act)
| Number of respondents | Annual number of responses per respondent | Total number of responses | Average burden & cost per response | Total annual burden hours & total annual cost | Annual cost per respondent ($)
| (1) | (2) | (1) * (2) = (3) | (4) | (3) * (4) = (5) | (5) ÷ (1)
Respondents with FAC ¹⁹s | 24 | 0.5 | 12 | 103 hrs.; $10,300 | 1,236 hrs.; $123,600 | $5,150
Respondents with AACs, but no FACs | 12 | 0.5 | 6 | 20 hrs.; $2,000 | 120.0 hrs.; $12,000 | 1,000
Respondents with no AACs and no FACs | 4 | 0.5 | 2 | 2 hrs.; $200 | 4.0 hrs.; $400 | 100
Total |  |  | 20 |  | 1,360.0 hrs.; $136,000 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 27, 2025.
Debbie-Anne A. Reese,
Secretary.

[FR Doc. 2025-03550 Filed 3-4-25; 8:45 am]

BILLING CODE 6717-01-P